DEPARTMENT OF HEALTH AND HUMAN SERVICES

Centers for Medicare & Medicaid Services

[CMS-7002-N]

Medicare Program; Meeting of the Advisory Panel on Medicare Education, January 24, 2007

AGENCY: Centers for Medicare & Medicaid Services (CMS), HHS.

ACTION: Notice of meeting.

SUMMARY: In accordance with the Federal Advisory Committee Act, 5 U.S.C. Appendix 2, section 10(a) (Pub. L. 92-463), this notice announces a meeting of the Advisory Panel on Medicare Education (the Panel) on January 24, 2007. The Panel advises and makes recommendations to the Secretary of Health and Human Services (the Secretary) and the Administrator of the Centers for Medicare & Medicaid Services on opportunities to enhance the effectiveness of consumer education strategies concerning the Medicare program. This meeting is open to the public.

DATES: Meeting Date: January 24, 2007 from 9 a.m. to 3:30 p.m., e.s.t.Deadline for Meeting Registration, Presentations, and Written Comments: January 17, 2007, 12 noon, e.s.t.

Deadline for Requesting Special Accommodations: January 9, 2007, 12 noon, e.s.t.

ADDRESSES: Meeting Location: Marriott Metro Center Hotel, 775 12th Street, NW., Washington, DC 20005, (202) 737-2200.

Meeting Registration, Presentations, and Written Comments: Lynne Johnson, Health Insurance Specialist, Division of Partnership Development, Office of External Affairs, Centers for Medicare & Medicaid Services, 7500 Security Boulevard, Mail stop S1-05-06, Baltimore, MD 21244-1850 or contact Ms. Johnson via e-mail at Lynne.Johnson@cms.hhs.gov. Meeting Registration: The meeting is open to the public, but attendance is limited to the space available. Persons wishing to attend this meeting must register by contacting Lynne Johnson at the address listed in the ADDRESSES section of this notice or by telephone at (410) 786-0090, by 12 noon, e.s.t., on January 17, 2007.

FOR FURTHER INFORMATION CONTACT: Lynne Johnson, (410) 786-0090. Please refer to the CMS Advisory Committees' Information Line (1-877-449-5659 toll free)/(410-786-9379 local) or the Internet (http://www.cms.hhs.gov/FACA/04_APME.asp) for additional information and updates on committee activities. Press inquiries are handled through the CMS Press Office at (202) 690-6145.

SUPPLEMENTARY INFORMATION: Section 222 of the Public Health Service Act (42 U.S.C. 217a), as amended, grants to the Secretary the authority to establish an advisory panel if the Secretary finds the panel necessary and in the public interest. The Secretary signed the charter establishing this Panel on January 21, 1999 and approved the renewal of the charter on January 14, 2005. The establishment of the charter and renewal of the charter were announced in the February 17, 1999 Federal Register (64 FR 7899), and the January 28, 2005 Federal Register (70 FR 4129), respectively. The Panel advises and makes recommendations to the Secretary and the Administrator of the Centers for Medicare & Medicaid Services (CMS) on opportunities to enhance the effectiveness of consumer education strategies concerning the Medicare program.

The goals of the Panel are as follows:

• To develop and implement a national Medicare education program that describes the options for selecting a health plan under Medicare.

• To enhance the Federal Government's effectiveness in informing the Medicare consumer, including the appropriate use of public-private partnerships.

• To expand outreach to vulnerable and underserved communities, including racial and ethnic minorities, in the context of a national Medicare education program.

• To assemble an information base of best practices for helping consumers evaluate health plan options and build a community infrastructure for information, counseling, and assistance.

The current members of the Panel are: Anita B. Boles, Executive Director, Partnership for Clear Health Communications; Gwendolyn T. Bronson, SHINE/SHIP Counselor, Massachusetts SHINE Program; Dr. Yanira Cruz, President and Chief Executive Officer, National Hispanic Council on Aging; Clayton Fong, President and Chief Executive Officer, National Asian Pacific Center on Aging; Nan Kirsten-Forte, Executive Vice President, Consumer Services, WebMD; Dr. Jessie C. Gruman, President and Chief Executive Officer, Center for the Advancement of Health; Betty L. Kennard, Vice President, Government Programs and Compliance, Health First Health Plans; Dr. David Lansky, Director, Health Program, Markle Foundation; Dr. Daniel Lyons, Senior Vice President, Government Programs, Independence Blue Cross; Dr. Frank B. McArdle, Manager, Hewitt Research Office, Hewitt Associates; Traci McClellan, J.D., Executive Director, National Indian Council on Aging; Dr. Keith Mueller, Professor and Section Head, Health Services Research and Rural Health Policy, University of Nebraska; Lee Partridge, Senior Health Policy Advisor, National Partnership for Women and Families; Myisha M. Patterson, National Health Coordinator, National Association for the Advancement of Colored People; Susan O. Raetzman, Associate Director, Public Policy Institute, American Association of Retired Persons; Rebecca Snead, Executive Vice President/Chief Executive Officer, National Alliance of State Pharmacy Associations; William A. Steel, President, The National Grange; Marvin Tuttle, Jr., CAE, Executive Director and Chief Executive Officer, Financial Planning Association; Catherine Valenti, Chairperson and Chief Executive Officer, Caring Voice Coalition; and Grant Wedner, Manager, Business Development Team, Cosmix Corporation.

The agenda for the January 24, 2007 meeting will include the following:

• Recap of the previous (October 17, 2006) meeting.

• Centers for Medicare & Medicaid Services Update.

• Medicare Preventive Benefits and Quality.

• Medicare Prescription Drug Benefit Update.

• Public Comment.

• Listening Session with CMS Leadership.

• Next Steps.

Individuals or organizations that wish to make a 5-minute oral presentation on an agenda topic should submit a written copy of the oral presentation to Lynne Johnson at the address listed in the ADDRESSES section of this notice by the date listed in the DATES section of this notice. The number of oral presentations may be limited by the time available. Individuals not wishing to make a presentation may submit written comments to Ms. Johnson at the address listed in the ADDRESSES section of this notice by the date listed in the DATES section of this notice.

Individuals requiring sign language interpretation or other special accommodations should contact Ms. Johnson at the address listed in the ADDRESSES section of this notice by the date listed in the DATES section of this notice.

Authority: Sec. 222 of the Public Health Service Act (42 U.S.C. 217a) and sec.10(a) of Pub. L. 92-463 (5 U.S.C. App. 2, 10(a) and 41 CFR 102-3).

Dated: November 30, 2006.
(Catalog of Federal Domestic Assistance Program No. 93.733, Medicare—Hospital Insurance Program; and Program No. 93.774, Medicare—Supplementary Medical Insurance Program).
Leslie V. Norwalk,
Acting Administrator, Centers for Medicare & Medicaid Services.

[FR Doc. E6-21434 Filed 12-21-06; 8:45 am]

BILLING CODE 4120-01-P